DEPARTMENT OF TRANSPORTATION

Federal Motor Carrier Safety Administration

49 CFR Part 395

[Docket No. FMCSA-2018-0248]

Hours of Service of Drivers; Extension of Comment Period

AGENCY: Federal Motor Carrier Safety Administration (FMCSA), DOT.

ACTION: Notice of proposed rulemaking; extension of comment period.

SUMMARY: The Federal Motor Carrier Safety Administration (FMCSA) extends the comment period for its August 22, 2019 notice of proposed rulemaking (NPRM) to amend its hours-of-service (HOS) rules. FMCSA received requests for an extension to the comment period from the American Trucking Associations, the Commercial Vehicle Safety Alliance, and the International Brotherhood of Teamsters. The Agency believes it is appropriate to extend the comment period to provide interested parties additional time to submit their responses to the NPRM. Therefore, the Agency extends the deadline for the submission of comments until October 21, 2019.

DATES: The comment period for the NPRM published August 22, 2019 at 84 FR 44190, is extended to October 21, 2019.

ADDRESSES: You may submit comments bearing the Federal Docket Management System (FDMS) Docket ID FMCSA-2018-0248 using any of the following methods:

• Federal eRulemaking Portal: https://www.regulations.gov/docket?D=FMCSA-2018-0248. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: (202) 493-2251.

To avoid duplication, please use only one of these four methods. See the “Public Participation” portion of the SUPPLEMENTARY INFORMATION section for instructions on submitting comments.

FOR FURTHER INFORMATION CONTACT: Mr. Richard Clemente, Federal Motor Carrier Safety Administration, 1200 New Jersey Avenue SE, Washington, DC 20590-0001, by telephone at (202) 366-4325, or email at MCPSD@dot.gov. If you have questions on viewing or submitting material to the docket, contact Docket Services, telephone (202) 366-9826.

SUPPLEMENTARY INFORMATION:

I. Public Participation and Request for Comments

A. Submitting Comments

If you submit a comment, please include the docket number for this NPRM (Docket No. FMCSA-2018-0248), indicate the specific section of the NPRM to which each comment applies, and provide a reason for each suggestion or recommendation. You may submit your comments and material online or by fax, mail, or hand delivery, but please use only one of these means. FMCSA recommends that you include your name and a mailing address, an email address, or a phone number in the body of your document so that FMCSA can contact you if there are questions regarding your submission. To submit your comment online, go to https://www.regulations.gov/docket?D=FMCSA-2018-0248. Click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in the NPRM as being available in the docket, go to https://www.regulations.gov/docket?D=FMCSA-2018-0248 and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

The August 2019 NPRM requested comment on five topics. First, it proposed extending the maximum duty period allowed under the short-haul exception available to certain commercial motor vehicle (CMV) drivers from 12 hours to 14 hours. It also proposed extending the maximum radius of the short-haul exception from 100 to 150 air miles. Second, the proposal would extend the maximum driving window under adverse driving conditions by up to 2 hours. Third, the Agency proposed to allow the 30-minute break to be taken while the driver remains on duty and to require the break only after 8 hours of driving (instead of 8 hours after coming on duty) without a 30-minute non-driving period. Fourth, the Agency proposed to allow drivers who use sleeper berths to take their required off-duty time in two periods, one of at least 7 consecutive hours in the berth, and the other (of at least 2 hours) either in or out of the berth. The total of these two periods must be a minimum of 10 hours. Neither time period would count against the maximum 14-hour driving window. Fifth, FMCSA proposed to add a new option allowing one off-duty break of at least 30 minutes, but not more than 3 hours, to extend the 14-hour driving window by the length of the break, provided drivers take at least 10 consecutive hours off duty at the end of the work shift.

The comment period for the NPRM was set to expire on October 7, 2019. FMCSA received the requests to extend the comment period from the American Trucking Associations (ATA), the Commercial Vehicle Safety Alliance (CVSA), and the International Brotherhood of Teamsters (IBT). All 3 requests are available in the docket.¹

¹ ATA: https://www.regulations.gov/document?D=FMCSA-2018-0248-5949, CVSA: https://www.regulations.gov/document?D=FMCSA-2018-0248-5511, and IBT: https://www.regulations.gov/document?D=FMCSA-2018-0248-6155.

ATA requested a 30-day extension of the comment period, stating that the additional time was needed to coordinate with and gather information from members and provide a more useful response to the detailed questions posed in the NPRM. ATA said that it was holding a relevant meeting on October 5-8.

Both CVSA and IBT requested a 45-day extension of the comment period. CVSA stated that the original 45-day period did not allow enough time to prepare and approve comments on such a complicated and important issue. IBT requested that the docket remain open until November 21, 2019, stating that the additional time was needed to effectively develop responses to the questions that FMCSA asked in the NPRM.

Additionally, FMCSA added to the docket additional details regarding its review of the 2011 Blanco Study concerning the change in safety-critical event reduction based on break type.²

² https://www.regulations.gov/document?D=FMCSA-2018-0248-6556.

Issued under authority delegated in 49 CFR 1.87.
Dated: September 13, 2019.
Raymond P. Martinez,
Administrator.

[FR Doc. 2019-20225 Filed 9-18-19; 8:45 am]

BILLING CODE 4910-EX-P